DEPARTMENT OF ENERGY

Proposed Agency Information Collection

AGENCY: Department of Energy.

ACTION: Notice and request for comments.

SUMMARY: The Department of Energy (DOE) is amending the Department of Energy Acquisition Regulation (DEAR) to provide a standardized authorization and associated contract clause for use by DOE contractors when performing work for non-DOE entities. These requirements include a paperwork burden in the form of a summary listing of project information for each active Work for Others project, identifying (i) Sponsoring agency; (ii) Total estimated costs; (iii) Project title and description; (iv) Project point of contact; and, (v) Estimated start and completion dates. The requirements and procedures previously delineated in DOE Directives have been extensively reviewed and revised to ensure every effort to decrease overly prescriptive guidance previously contained in the DOE Order. Revised contractor program requirements previously found in DOE Order 481.1B are being relocated to the DEAR. The objective of this effort is to ensure that authorization to perform non-DOE funded work is performed in a consistent and uniform manner, while ensuring that the DOE's program continues to be compliant with applicable laws regulations and statutes. No change in the Department's Work for Others policy is being made.

DATES: Comments regarding the information collection package must be received on or before April 27, 2004. If you anticipate that you will be submitting comments, but find it difficult to do so within the period of time allowed by this notice, contact the person listed below as soon as possible.

ADDRESSES: Written comments may be sent to Richard Langston, Procurement Policy Analyst, Office of Procurement and Assistance Policy, Office of Procurement and Assistance Management, ME-61/Germantown Bldg, 1000 Independence Ave, SW., Washington, DC 20585-1290, or by fax 202-586-0545, or e-mail, richard.langston@hq.doe.gov

Comments should also be addressed to Susan L. Frey, Director, Records Management Division, IM-11/Germantown Bldg., Office of Business and Information Management, Office of the Chief Information Officer, U.S. Department of Energy, 1000 Independence Ave, SW., Washington, DC 20585-1290.

FOR FURTHER INFORMATION CONTACT: Requests for additional information or copies of the information collection instrument and instructions should be directed to Richard Langston, Procurement Policy Analyst, Office of Procurement and Assistance Policy, Office of Procurement and Assistance Management, ME-61/Germantown Bldg, 1000 Independence Ave, SW., Washington, DC 20585-1290.

SUPPLEMENTARY INFORMATION: This package contains: (1) OMB Control No. NEW; (2) Package Title: Work for Others by DOE Management and Operating Contractors; (3) Type of Respondents: DOE Management and Operating Contractors; (4) Estimated Number of responses: 20; (5) Estimated Total Burden Hours: 100; (6) Purpose: This information is required by the Department to ensure that programmatic and administrative management requirements and resources are managed efficiently and effectively. The package contains 1 information and/or recordkeeping requirement, that is, the provision proposed to be placed at 48 CFR 970.5217-1, Work for Others.

Statutory Authority: Sec. 3506(c)(2)(A) of the Paperwork Reduction Act of 1995 (Pub. L. 104-13).

Issued in Washington, DC, on February 23, 2004.
Susan L. Frey,
Director, Records Management Division, Office of Business and Information Management, Office of the Chief Information Officer.

[FR Doc. 04-4357 Filed 2-26-04; 8:45 am]

BILLING CODE 6450-01-P